Title 3—

The President

Memorandum of July 1, 2005

Assignment of Reporting Function

Memorandum for the Secretary of State

My memorandum on “Assignment of Reporting Functions under the Intelligence Reform and Terrorism Prevention Act of 2004” of April 21, 2005, is amended by striking “7119(a)” and inserting in lieu thereof “7120.”

You are authorized and directed to publish this memorandum in the Federal Register.

Editorial Note: The Presidential memorandum dated April 21, 2005, entitled ``Assignment of a Reporting Function under the Intelligence Reform and Terrorism Prevention Act of 2004,'' was printed in the Weekly Compilation of Presidential Documents issue of April 25, 2005, beginning on page 655.

B

THE WHITE HOUSE,

Washington, July 1, 2005.

[FR Doc. 05-13587

Filed 7-18-05; 8:45 am]

Billing code 4710-10-P